DEPARTMENT OF ENERGY

Federal Energy Regulatory Commission

[Docket No. EL05-79-000, et al.]

TransCanada Power (Castleton) LLC, et al.; Electric Rate and Corporate Filings

April 4, 2005.

The following filings have been made with the Commission. The filings are listed in ascending order within each docket classification.

1. TransCanada Power (Castleton) LLC

[Docket No. EL05-79-000]

Take notice that on March 23, 2005, TransCanada Power (Castleton) LLC (TCP Castleton) filed a petition for declaratory order requesting that the Commission find that: (1) TCP Castleton is not a public utility engaged in the sale of energy from the Castleton Facility; and (2) TCP Castleton is not subject to Commission regulation under the Federal Power Act solely as a result of TCP Castleton's status as an exempt wholesale generator pursuant to Rule 207 of the Commission's Rules of Practice and Procedure (18 CFR 385.207).

Comment Date: 5 p.m. eastern time on April 13, 2005.

2. Southern California Edison Company

[Docket No. EL05-80-000]

Take notice that on March 24, 2005, Southern California Edison Company filed a Petition for Declaratory Order concerning transmission facilities in the Antelope Valley/Tehachapi region of California.

Comment Date: 5 p.m. eastern time on April 14, 2005.

3. LG&E Energy Marketing Inc.

[Docket No. ER94-1188-035]

Louisville Gas & Electric Company & Kentucky Utilities Company

[Docket Nos. ER98-4540-004 and ER99-1623-004]

WKE Station Two Inc.

[Docket No. ER98-1278-010]

Western Kentucky Energy Corporation

[Docket No. ER98-1279-006]

Take notice that, on March 29, 2005, LG&E Energy Marketing Inc., Louisville Gas & Electric Company, Kentucky Utilities Company, WKE Station Two Inc., and Western Kentucky Energy Corporation (collectively, the LG&E Parties) submitted a response to the Commission's March 8, 2005 deficiency letter seeking additional information regarding LG&E Parties' November 19, 2004 filing in these dockets.

Comment Date: 5 p.m. eastern time on April 19, 2005.

4. Idaho Power Company

[Docket No. ER97-1481-008]

Take notice that, on March 29, 2005, Idaho Power Company submitted a compliance filing pursuant to the Commission's March 3, 2005 Order Accepting Updated Market Power Analysis in Docket No. ER97-1481-003, et al., 110 FERC ¶ 61,219 (2005) to incorporate the language relating to change in status reporting requirements, as adopted in Order 652.

Idaho Power Company states that copies of this filing were served on all parties to this proceeding.

Comment Date: 5 p.m. eastern time on April 19, 2005.

5. Millennium Power Partners, L.P.

[Docket No. ER98-830-011]

Take notice that on March 28, 2005, Millennium Power Partners, L.P. (Millennium) submitted a compliance filing pursuant to the Commission's March 3, 2005 Order in Millennium Power Partners, L.P., 110 FERC ¶ 61,217 (2005), to revise its market-based rate tariff to incorporate the change in status reporting requirements adopted in the Commission's Order No. 652, Reporting Requirement for Changes in Status for Public Utilities With Market-Based Rate Authority, 110 FERC ¶ 61,097 (2005).

Comment Date: 5 p.m. eastern time on April 18, 2005.

6. Avista Corporation; Avista Energy, Inc.; Spokane Energy, LLC; and Avista Turbine Power, Inc.

[Docket No. ER99-1435-010; ER96-2408-022; ER98-4336-011; and ER00-1814-005]

Take notice that on March 29, 2005, Avista Corporation, on behalf of itself and three of its affiliates, Avista Energy, Inc., Spokane Energy, LLC and Avista Turbine Power, Inc. (collectively Avista Entities), filed a notice of change in status pursuant to the Commission's Order No. 652, Reporting Requirement for Changes in Status for Public Utilities With Market-Based Rate Authority, 110 FERC ¶ 61,097 (2005).

Avista Entities state that copies of this filing have been served upon parties on the Commission's official service list for these proceedings.

Comment Date: 5 p.m. eastern time on April 19, 2005.

7. Carthage Energy, LLC; Energetix, Inc.; New York State Electric & Gas Corporation; NYSEG Solutions, Inc.; Rochester Gas and Electric Corporation; PEI Power II, LLC; and South Glens Falls Energy, LLC

[Docket No. ER99-2541-006; ER97-3556-014; ER99-221-009; ER99-220-011; ER97-3553-003; ER01-1764-003; and ER00-262-005]

Take notice that on March 28, 2005, Carthage Energy, LLC (Carthage), Energetix, Inc. (Energetix), New York State Electric & Gas Corporation (NYSEG), NYSEG Solutions, Inc. (NSI), Rochester Gas and Electric Corporation (RG&E), PEI Power II, LLC (PEI2), and South Glens Falls Energy, LLC (SGF) (Triennial Filers) tendered for filing an amendment to their market-based rate authority triennial market report filed on July 12, 2004 in Docket Nos. ER99-2541-005, et al. In addition, each of the Triennial Filers also submitted tariff sheets incorporating the change-in-status reporting requirements in Order No. 652, Reporting Requirement for Changes in Status for Public Utilities With Market-Based Rate Authority, 110 FERC ¶ 61,097 (2005).

Comment Date: 5 p.m. eastern time on April 18, 2005.

8. Alpena Power Generation, L.L.C.

[Docket No. ER04-1004-004]

Take notice that on March 29, 2005, Alpena Power Generation, L.L.C. (Alpena Generation), in compliance with the Commission's March 1, 2005 Letter Order, 110 FERC ¶ 61,199 (2005), filed revised tariff sheets and information regarding interlocking directorates.

Comment Date: 5 p.m. eastern time on April 19, 2005.

9. New York Independent System Operator, Inc.

[Docket Nos. ER04-1144-004]

Take notice that on March 29, 2005, the New York Independent System Operator, Inc. (NYISO) submitted a progress report concerning its implementation activities associated with the Comprehensive Reliability Planning Process as well as its stakeholder process to develop Phase II of its Planning Process to address economic issues. NYISO states that this progress report is submitted in accordance with the Commission's December 28, 2004 Order, 109 FERC ¶ 61,372 (2004).

The NYISO states that it has served all parties on the official service list in this proceeding, The NYISO also states that it has electronically served a copy of this filing on the official representative of each of its customers, on each participant in its stakeholder committees, on the New York State Public Service Commission, and on the electric utility regulatory agencies of New Jersey and Pennsylvania.

Comment Date: 5 p.m. eastern time on April 19, 2005.

10. Devon Power LLC, Middletown Power LLC, Montville Power LLC, Norwalk Power LLC, NRG Power Marketing Inc.

[Docket No. ER04-23-011]

Take notice that on March 22, 2005, Devon Power LLC, Middletown Power LLC, Montville Power LLC and Norwalk Power LLC (collectively, NRG) submitted for filing an affidavit of Robert C. Flexon in support of NRG's March 1, 2005 filing of a statement showing the C-1 and C-2 costs incurred during the period April 1, 2004 through December 31, 2004, submitted in compliance with the Commission's order issued January 27, 2005 in ISO New England, et al., 110 FERC ¶ 61,079 (2005).

Comment Date: 5 p.m. eastern time on April 12, 2005.

11. Diverse Power Incorporated

[Docket No. ER04-444-003]

Take notice that on March 29, 2005, Diverse Power Incorporated (Diverse Power) submitted revisions to its Rate Schedule No. 1 to incorporate the reporting requirements adopted by the Commission in Order No. 652 and to specify that Diverse Power will not make any sales to affiliates without prior Commission approval pursuant to section 205 of the Federal Power Act.

Comment Date: 5 p.m. eastern time on April 19, 2005.

12. Hartford Steam Company

[Docket No. ER04-582-005]

Take notice that on March 28, 2005, Hartford Steam Company filed Original Sheet No. 10 of Rate Schedule FERC No. 1 in compliance with the Commission's Order No. 652, Reporting Requirement for Changes in Status For Public Utilities With Market-Based Rate Authority, 110 FERC ¶ 61,097 (2005). Hartford Steam Company requests an effective date of March 21, 2005.

Comment Date: 5 p.m. eastern time on April 18, 2005.

13. Marina Energy, LLC

[Docket No. ER05-642-000]

Take notice that on March 28, 2005, Marina Energy, LLC filed a request to withdraw its February 24, 2005 filing in the above-referenced docket number.

Comment Date: 5 p.m. eastern time on April 18, 2005.

14. Commerce Energy Inc.

[Docket No. ER05-737-000]

Take notice that on March 29, 2005, Commerce Energy Inc., (Commerce) submitted a Notice of Succession to inform the Commission that as a result of a name change, Commerce has succeeded to the FERC Rate Schedule of Commonwealth Energy Corporation. Commerce also submitted revised tariff sheets to reflect the Market Behavior Rules adopted by the Commission in Investigation of Terms and Conditions of Public Utility Market-Based Rate Authorizations, 195 FERC ¶ 61,218 (2003) and the reporting requirements for changes in status adopted by the Commission in Order No. 652, Reporting Requirement for Changes in Status for Public Utilities with Market-Based Rate Authority, 110 FERC ¶ 61,097 (2005).

Commerce states that copies of the filing were served on all parties listed on the service list for Docket No. ER97-4253-000.

Comment Date: 5 p.m. eastern time on April 19, 2005.

15. Western Power Services, Inc.

[Docket No. ER05-738-000]

Take notice that on March 29, 2005, Western Power Services (Western) submitted for filing a Notice of Cancellation of its FERC tariff under which it was authorized to engage in wholesale sale of electricity for resale in interstate commerce at market-based rates.

Comment Date: 5 p.m. eastern time on April 19, 2005.

16. Yoakum Electric Generating Cooperative, Inc.

[Docket No. ER05-739-000]

Take notice that on March 29, 2005, Yoakum Electric Generating Cooperative, Inc. (Yoakum) submitted an application requesting acceptance of its FERC Rate Schedule No. 1, under which Yoakum will make wholesale sales of electric energy and capacity; approval of certain blanket approvals; and approval of certain waivers of the Commission's regulations.

Comment Date: 5 p.m. eastern time on April 19, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-1705 Filed 4-11-05; 8:45 am]

BILLING CODE 6717-01-P